NATIONAL SCIENCE FOUNDATION

Advisory Panel for Integrative Activities, #1373; Notice of Meeting

In accordance with the Federal Advisory Committee Act (Pub. L. 92-463, as amended), the National Science Foundation announces the following meeting.

Name: Ad Hoc Advisory Committee on the Merit Review Process (MRPAC).

Date/Time: March 28, 2012; 12 p.m.-4 p.m., EDT.

Place: National Science Foundation, 4201 Wilson Boulevard, Room I-360 Arlington, VA.

Type of Meeting: Open.

Contact Person: Ms. Victoria Fung, National Science Foundation 4201 Wilson Boulevard, Arlington, VA, 22230. Email: vfung@nsf.gov.

If you plan to attend the meeting, please send an email with your name and affiliation to the individual listed above, by the day before the meeting, so that a visitor badge can be prepared.

Purpose of Meeting: To provide advice concerning issues related to NSF's merit review process.

Agenda

• Welcome.

• Update on outreach activities.

• Discussion of potential pilots of enhancements to the merit review process.

For latest details information, please check with this following link: http://www.nsf.gov/od/oia/additional_resources/AC-MeritReview/index.jsp.

Dated: March 7, 2012.
Susanne Bolton,
Committee Management Officer.

[FR Doc. 2012-5861 Filed 3-9-12; 8:45 am]

BILLING CODE 7555-01-P